DEPARTMENT OF HEALTH AND HUMAN SERVICES

Centers for Disease Control and Prevention

[60 Day-07-05AT]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Site Specific Modular Evaluation Instrument for Behavior Outcome Measurement—New—Agency for Toxic Substances and Disease Registry (ATSDR), Centers for Disease Control and Prevention (CDC).

ATSDR considers evaluation to be a critical component for enhancing program effectiveness and improving resource management. ATSDR's mandate under the Comprehensive Environmental Response, Compensation, and Liability Act (CERLCA), as amended, is to help prevent or reduce further exposures at hazardous waste sites and the illnesses that result from such exposures. A standardized methodology to monitor outcomes associated with agency intervention will provide the data needed for demonstrating effectiveness and efficiency as well as identifying areas for improvement.

ATSDR, in cooperation with our cooperative agreement partners, is developing a series of survey modules designed to measure individual attitudes, knowledge, and behaviors, and to provide mental and physical health self-assessments, that may be influenced by health education and health promotion efforts conducted by the agency at hazardous waste sites. These modules will be used to determine knowledge improvements, attitude shifts, and behavior change following specific ATSDR program efforts and activities. The module or modules used at each program site will vary depending on the contaminant(s) of concern and the health education/promotion actions undertaken. In addition, the timing of the data collection will vary depending on whether this is a new program site or one that has had health education/promotion activities underway for some time. In general, for new sites or existing sites with new intervention efforts, we would aim for two data collections: one baseline and one post-intervention. At existing sites where ATSDR interventions have been completed, we would conduct one post-intervention data collection.

Health education and promotion activities are conducted at approximately 250 sites annually. We estimate that 90% of the program sites will have populations of 10,000 or fewer persons who have been exposed, or potentially exposed, to contaminants of concern. We expect to survey up to 150 respondents at each site in this category. At sites with exposed or potentially exposed populations of more than 10,000 persons, we expect to survey up to 500 respondents at each site.

Using a standardized methodology and survey instrument to assess outcomes related to targeted intervention activities at hazardous waste sites will provide the agency with important feedback for program improvement. There will be no costs to respondents except for their time to participate in the survey.

Estimated Annualized Burden Hours
Respondents | Number of sites annually | Number of respondents | Responses per respondent | Average burden per response (in hours) | Total annual burden (in hours)
General Public at Existing Sites with Exposed Populations of 10,000 or Less | 55 | 150 | 1 | 20/60 | 2,750
General Public at Existing Sites with New Interventions or New Sites with Exposed Populations of 10,000 or Less | 170 | 150 | 2 | 20/60 | 17,000
General Public at Existing Sites with Exposed Populations of 10,000 or More | 5 | 500 | 1 | 20/60 | 833
General Public at Existing Sites with New Interventions or New Sites with Exposed Populations of 10,000 or More | 20 | 500 | 2 | 20/60 | 6,667
Total |  |  |  |  | 27,250

Dated: November 1, 2006.
Joan F. Karr,
Acting Reports Clearance Officer, Centers for Disease Control and Prevention.

[FR Doc. E6-18746 Filed 11-6-06; 8:45 am]

BILLING CODE 4163-18-P